DEPARTMENT OF TRANSPORTATION

Federal Transit Administration

Limitation on Claims Against Proposed Public Transportation Project —Buffalo-Amherst-Tonawanda Corridor Expansion Project, Buffalo, New York.

AGENCY: Federal Transit Administration (FTA), Department of Transportation (DOT).

ACTION: Notice.

SUMMARY: This notice announces final environmental actions taken by the Federal Transit Administration (FTA) regarding the Buffalo-Amherst-Tonawanda Corridor Expansion Project in Buffalo, New York. The purpose of this notice is to publicly announce FTA's environmental decisions on the subject project, and to activate the limitation on any claims that may challenge these final environmental actions.

DATES: A claim seeking judicial review of FTA actions announced herein for the listed public transportation project will be barred unless the claim is filed on or before July 18, 2026.

FOR FURTHER INFORMATION CONTACT: John Sautter, Attorney Advisor, Office of Chief Counsel, (212) 668-2180, or Saadat Khan, Environmental Protection Specialist, Office of Environmental Policy and Programs, (202) 366-6385. FTA is located at 1200 New Jersey Avenue SE, Washington, DC 20590. Office hours are from 9:00 a.m. to 5:00 p.m., Monday through Friday, except Federal holidays.

SUPPLEMENTARY INFORMATION: Notice is hereby given that FTA has taken final agency actions subject to 23 U.S.C. 139(l) by issuing certain approvals for the public transportation project listed below. The actions on the project, as well as the laws under which such actions were taken, are described in the documentation issued in connection with the project to comply with the National Environmental Policy Act (NEPA) and in other documents in the FTA environmental project files for the project. Interested parties may contact either the project sponsor or the relevant FTA Regional Office for more information. Contact information for FTA's Regional Offices may be found at https://www.transit.dot.gov/about/regional-offices/regional-offices.

This notice applies to all FTA decisions on the listed project as of the issuance date of this notice and all laws under which such actions were taken, including, but not limited to, NEPA (42 U.S.C. 4321-4347), Section 4(f) requirements (49 U.S.C. 303), Section 106 of the National Historic Preservation Act (54 U.S.C. 306108), the Endangered Species Act (16 U.S.C. 1531), the Clean Water Act (33 U.S.C. 1251), the Uniform Relocation and Real Property Acquisition Policies Act (42 U.S.C. 4601), and the Clean Air Act (42 U.S.C. 7401-7671q). This notice does not, however, alter or extend the limitation period for challenges of project decisions subject to previous notices published in the Federal Register. The project actions that are the subject of this notice follow:

Project name and location: Buffalo-Amherst-Tonawanda Corridor Expansion Project, Buffalo, New York.

Project Sponsor: Niagara Frontier Transit Metro System, Inc. (Metro).

Project description: The Buffalo-Amherst-Tonawanda Corridor Expansion Project (Project) involves a seven-mile expansion of high-quality light rail transit service to Buffalo, Tonawanda and Amherst. The Project includes the construction of ten stations, two park-and-ride facilities, and an overnight storage and maintenance facility.

Final agency action: Section 106 No Adverse Effect determination, dated November 21, 2025; Section 4(f) de minimis impact determination, dated January 16, 2026; Combined Final Environmental Impact Statement (FEIS)/Record of Decision (ROD), dated January 30, 2026.

Supporting documentation: Buffalo-Amherst-Tonawanda Corridor Expansion Project Combined FEIS/ROD, dated January 30, 2026, and Buffalo-Amherst-Tonawanda Corridor Expansion Project Draft Environmental Impact Statement (DEIS), dated August 19, 2025. The Combined FEIS/ROD, DEIS, and supporting documents can be viewed and downloaded from: https://www.nftametrotransitexpansion.com/final_eis/

Authority: 23 U.S.C. 139(l)(1).

Megan Blum,
Deputy Associate Administrator for Planning and Environment.

[FR Doc. 2026-03137 Filed 2-17-26; 8:45 am]

BILLING CODE 4910-57-P